DEPARTMENT OF TRANSPORTATION

Federal Highway Administration

Notice of Final Federal Agency Actions on a Proposed U.S. Highway Project in California

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). These actions relate to a proposed highway project to add a standard northbound HOV Lane and standardized Northbound Mixed-Flow Lanes, Median and Shoulder Alternative.

DATES: By this notice, the FHWA is advising the public of final agency actions subject to 23 U.S.C. 139(l)(1). A claim seeking judicial review of the Federal agency actions on the project will be barred unless the claim is filed on or before November 17, 2008. If the Federal law that authorizes judicial review of a claim provides a time period of less than 180 days for filing such a claim, then that shorter time period still applies.

FOR FURTHER INFORMATION CONTACT: Ron Kosinski, Deputy District Director, Division of Environmental Planning, California Department of Transportation, District 7, 100 S. Main Street, Los Angeles, CA 90012, Telephone: 213-897-0703 or Ron.Kosinski@dot.ca.gov.

SUPPLEMENTARY INFORMATION: Effective July 1, 2007, the FHWA assigned, and the California Department of Transportation (Caltrans) assumed environmental responsibilities for this project pursuant to 23 U.S.C. 327. Caltrans prepared an Environmental Impact Statement on a proposal for a highway widening improvement project in Los Angeles County, California.

The proposed project would widen I-405 to add a northbound HOV lane between National Boulevard and Ventura Boulevard, connecting with existing HOV lanes. The northbound roadway would meet current design standards for lane, median, and shoulder widths except at the I-10/I-405 interchange area and between Moraga Dr. and Sunset Blvd. interchanges. Standard lanes consist of an 11-foot half median, a 12-foot HOV lane, a 1-foot HOV buffer, five 12-foot mixed-flow lanes, and a 10-foot outside shoulder. The selected alternative would also widen the southbound I-405 to meet current design standards for lane, median, and shoulder widths at certain sections. Southbound standardization would be within the following segments: Between Olympic Blvd. and Waterford Street and between Bel Air Crest to the north end of the project (just south of Ventura Boulevard). Local interchanges within the project limits would be reconstructed and improved notably at Wilshire Boulevard, Sunset Boulevard, and Skirball Center Drive.

The anticipated permits include:

• 401 Water Quality Certification (from the Regional Water Quality Control Board) under Section 401 of the Clean Water Act).

• 404 Individual Permit (from the U. S. Army Corps of Engineers) under Section 404 of the Clean Water Act).

A Public meeting was held at the Skirball Cultural Center in Los Angeles on August 22, 2007. The Environmental Impact Statement, which was approved on February 29, 2008, and other documents are available for public and agency review at Caltrans, District 7 office provided above.

This notice applies to all Federal agency decisions as of the issuance date of this notice and all laws under which such actions were taken, including but not limited to:

General: National Environmental Policy Act (NEPA) [42 U.S.C. 4321-4351]; Federal Aid-Highway Act [23 U.S.C. 109].

Land: Landscape and Scenic Enhancement (Wildflowers) [23 U.S.C. 219].

Air: Clean Air Act 42 U.S.C. 7401-7671(q).

Wildlife: Endangered Species Act [16 U.S.C. 1531-1544 and section 1536], Fish and Wildlife Coordination Act [16 U.S.C. 661-667(d)], Migratory Bird Treaty Act [16 U.S.C. 703-712]. Section 4(f) of the U.S. Department of Transportation Act of 1966 [49 U.S.C. 303].

Historic and Cultural Resources: Section 106 of the National Historic Preservation Act of 1966, as amended [16 U.S.C. 470(aa)-11]; Archeological Resources Protection Act of 1977 [16 U.S.C. 470(aa)-11]; Archeological and Historic Preservation Act [16 U.S.C. 469-469(c)]; Native American Grave Protection and Repatriation Act (NAGPRA) [25 U.S.C. 3001-3013].

Social and Economic: Civil Rights Act of 1964 [42 U.S.C. 2000(d)-2000(d)(1)]; American Indian Religious Freedom Act [42 U.S.C. 1996]; Farmland Protection Policy Act (FPPA) [7 U.S.C. 4201-4209]; The Uniform Relocation Assistance Act and Real Property Acquisition Policies Act of 1970, as amended.

Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: May 12, 2008.
Shawn E. Oliver,
South Team Leader.

[FR Doc. E8-11209 Filed 5-19-08; 8:45 am]

BILLING CODE 4910-RY-P